Proclamation 10362 of March 31, 2022

Second Chance Month, 2022

By the President of the United States of America

A Proclamation

April marks Second Chance Month, when we reaffirm the importance of helping people who were formerly incarcerated reenter society. America is a Nation of second chances, and it is critical that our criminal and juvenile justice systems provide meaningful opportunities for rehabilitation and redemption. It is also vital that we address both the root causes of crime and the underlying needs of returning citizens using resources devoted to prevention, diversion, reentry, trauma-informed care, culturally-specific services, and social support. By supporting people who are committed to rectifying their mistakes, redefining themselves, and making meaningful contributions to society, we help reduce recidivism and build safer communities.

Every year, over 640,000 people are released from State and Federal prisons. More than 70 million Americans have a criminal record that creates significant barriers to employment, economic stability, and successful reentry into society. Thousands of legal and regulatory restrictions prevent these individuals from accessing employment, housing, voting, education, business licensing, and other basic opportunities. Because of these barriers, nearly 75 percent of people who were formerly incarcerated are still unemployed a year after being released.

We must rethink the existing criminal justice system and whom we send to prison and for how long; how unaddressed trauma and abuse create pipelines to incarceration; how people are treated while incarcerated; how prepared they are to reenter society once they have served their time; and how the racial inequities that lead to disproportionate numbers of incarcerated people of color and other underserved groups.

My Administration recognizes that making the criminal and juvenile justice systems more equitable, just, and effective requires a holistic approach. It requires eliminating exceedingly long sentences and mandatory minimums that keep people incarcerated longer than they should be. It requires quality job training and educational opportunities during incarceration. It requires providing formerly incarcerated individuals with opportunities to enter the workforce, reunite with their families, find stable and safe homes, and access health care. It requires expunging and sealing certain criminal records so that people's futures are not defined by their past.

That is why my Administration is working across Federal agencies to eliminate barriers to reentry. We are expanding avenues for employment, housing, education, health services, civic engagement, and other benefits. Last fall, the Department of Justice convened the Reentry Coordination Council in collaboration with the Departments of Housing and Urban Development, Agriculture, Education, Health and Human Services, Veterans Affairs, and Labor. I am confident that our collective efforts will help make our communities safer and stronger by reducing crime, recidivism, mass incarceration, and elements of the justice system that foster harmful disparate impacts on people of color and other historically disadvantaged communities.

But despite our progress, much more work remains. Our Federal, State, local, territorial, and Tribal governments, private employers, philanthropies, and community leaders play a significant role in preparing individuals returning to our communities for success. Together, let us recommit to empower Americans who have paid their debt to society and to provide them with a second chance to participate, contribute, and succeed.

NOW, THEREFORE, I, JOSEPH R. BIDEN JR., President of the United States of America, by virtue of the authority vested in me by the Constitution and the laws of the United States, do hereby proclaim April 2022 as Second Chance Month. I call upon all government officials, educators, volunteers, and all the people of the United States to observe the month with appropriate programs, ceremonies, and activities.

IN WITNESS WHEREOF, I have hereunto set my hand this thirty-first day of March, in the year of our Lord two thousand twenty-two, and of the Independence of the United States of America the two hundred and forty-sixth.

[FR Doc. 2022-07276

Filed 4-4-22; 8:45 am]

Billing code 3395-F2-P